DEPARTMENT OF EDUCATION

[Docket No.: ED-2023-SCC-0028]

Agency Information Collection Activities; Comment Request; Evaluation of Strategies To Address Unfinished Learning in Math (ReSolve Math Study)

AGENCY: Institute of Education Sciences (IES), Department of Education (ED).

ACTION: Notice.

SUMMARY: In accordance with the Paperwork Reduction Act (PRA) of 1995, the Department is proposing a new information collection request (ICR).

DATES: Interested persons are invited to submit comments on or before April 17, 2023.

ADDRESSES: To access and review all the documents related to the information collection listed in this notice, please use http://www.regulations.gov by searching the Docket ID number ED-2023-SCC-0028. Comments submitted in response to this notice should be submitted electronically through the Federal eRulemaking Portal at http://www.regulations.gov by selecting the Docket ID number or via postal mail, commercial delivery, or hand delivery. If the regulations.gov site is not available to the public for any reason, the Department will temporarily accept comments at ICDocketMgr@ed.gov. Please include the docket ID number and the title of the information collection request when requesting documents or submitting comments. Please note that comments submitted after the comment period will not be accepted. Written requests for information or comments submitted by postal mail or delivery should be addressed to the Manager of the Strategic Collections and Clearance Governance and Strategy Division, U.S. Department of Education, 400 Maryland Ave. SW, LBJ, Room 6W203, Washington, DC 20202-8240.

FOR FURTHER INFORMATION CONTACT: For specific questions related to collection activities, please contact Thomas Wei, (646) 428-3892.

SUPPLEMENTARY INFORMATION: The Department, in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. The Department is soliciting comments on the proposed information collection request (ICR) that is described below. The Department is especially interested in public comment addressing the following issues: (1) is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Evaluation of Strategies to Address Unfinished Learning in Math (ReSolve Math Study).

OMB Control Number: 1850-NEW.

Type of Review: New ICR.

Respondents/Affected Public: Individuals or Households.

Total Estimated Number of Annual Responses: 12,640.

Total Estimated Number of Annual Burden Hours: 2,559.

Abstract: The COVID-19 pandemic led to substantial unfinished learning in math and an important debate about how best to address it. Traditionally, policymakers and educators have advocated a “broad foundation skill building” approach, but an alternative “just-in-time skill building” approached has received more attention recently, including in the U.S. Department of Education's COVID-19 Handbook. But there is limited evidence comparing these approaches. This evaluation will examine the effectiveness of adaptive technology products that deliver these two catch-up strategies in elementary schools, where teachers often struggle with how to teach math well and the benefits of using technology supports are understudied. The findings will provide valuable evidence, especially for low-performing schools identified under the Every Student Succeeds Act and their most underserved students. This package requests approval for data collection activities to conduct the evaluation.

Dated: February 9, 2023.
Juliana Pearson,
PRA Coordinator, Strategic Collections and Clearance, Governance and Strategy Division, Office of Chief Data Officer, Office of Planning, Evaluation and Policy Development.

[FR Doc. 2023-03093 Filed 2-13-23; 8:45 am]

BILLING CODE 4000-01-P